DEPARTMENT OF ENERGY

Federal Energy Regulatory Commission

[Docket No. IC15-7-000]

Commission Information Collection Activities (FERC-915); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the requirements and burden ¹ of the information collection FERC-915 (Public Utility Market-Based Rate Authorization Holders—Records Retention Requirements).

¹ The Commission defines burden as the total time, effort, or financial resources expended by persons to generate, maintain, retain, or disclose or provide information to or for a Federal agency. For further explanation of what is included in the information collection burden, reference 5 Code of Federal Regulations 1320.3.

DATES: Comments on the collection of information are due July 17, 2015.

ADDRESSES: You may submit comments (identified by Docket No. IC15-7-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for the collection described below with no changes to the current reporting requirements.

Comments: Comments are invited on: (1) Whether the collection of information are necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Title: FERC-915, Public Utility Market-Based Rate Authorization Holders—Records Retention Requirements.

OMB Control No.: 1902-0250.

Type of Request: Three-year extension of the FERC-915 information collection requirements with no changes to the current reporting requirements.

Abstract: The Commission has the regulatory responsibility under section 205 of the Federal Power Act (FPA) to ensure that wholesale sales of electricity are just and reasonable and provided in a non-discriminatory manner. The Commission uses the information maintained by the respondents under FERC-915 to monitor the entities' sales, ensure that the prices are just and reasonable, maintain the integrity of the wholesale jurisdictional sales markets, and ensure that the entities comply with the requirements of the FPA and any orders authorizing market-based rate sales. FERC-915 information collection requirements are contained in 18 Code of Federal Regulations Part 35.41(d).

Type of Respondents: Public Utility Market-Based Rate Authorization Holders.

Estimate of Annual Burden: The Commission estimates the total Public Reporting Burden for this information collection as:

² The estimates for cost per response are derived using the following formula: Average Burden Hours per Response * $30.66 per Hour = Average Cost per Response. The hourly cost figure comes from the Bureau of Labor Statistics Web site (http://www.bls.gov/oes/current/naics2_22.htm). The occupation title is “file clerk” and the occupation code is 43-4071. 69.4 percent of this cost is hourly wages. The rest of the cost is benefits (http://www.bls.gov/news.release/ecec.nr0.htm).

FERC-915—Public Utility Market-Based Rate Authorization Holders—Record Retention Requirements
| Number of respondents | Annual number of responses per respondent | Total number of responses | Average burden and cost per response ² | Total annual burden hours and total annual cost | Cost per respondent ($)
| (1) | (2) | (1)*(2)=(3) | (4) | (3)*(4)=(5) | (5)÷(1)
Electric Utilities with Market-Based Rate Authority | 1,955 | 1 | 1,955 | 1 hr.; $30.66 | 1,955 hrs.; $59,940 | $30.66

The total estimated annual cost burden to respondents is: $416,293.

• Labor costs: 1,955 hours * $30.66/hour = $59,940

• Record retention/storage cost for paper records (using an estimate of 48,891 cubic feet): $315,792 ³

³ The Commission bases this figure on industry archival storage costs.

• Electronic record retention/storage cost: $40,561

○ staff-time cost: 1,955 hours ÷ 2 ⁴ = 977.50 hours * $28/hour ⁵ = $27,370;

⁴ Only 50% of records are retained in electronic formats.

⁵ The Commission bases the $28/hour figure on a FERC staff study that included estimating public utility recordkeeping costs.

○ electronic record storage cost: 865 * $15.25/year ⁶ = $13,191

⁶ The Commission bases the estimated $15.25/year for each entity on the estimated cost to service and to store 1 GB of data (based on the aggregated cost of an IBM advanced data protection server).

Dated: May 12, 2015.
Kimberly D. Bose,
Secretary.

[FR Doc. 2015-11919 Filed 5-15-15; 8:45 am]

BILLING CODE 6717-01-P